ENVIRONMENTAL PROTECTION AGENCY

[FRL-8715-9]

Science Advisory Board Staff Office; Clean Air Scientific Advisory Committee (CASAC); NOX & SOX Secondary NAAQS Review Panel Meeting and Teleconference

AGENCY: Environmental Protection Agency (EPA).

ACTION: Notice.

SUMMARY: The Environmental Protection Agency (EPA) Science Advisory Board (SAB) Staff Office announces a public meeting of the Clean Air Scientific Advisory Committee Oxides of Nitrogen (NOX) and Sulfur Oxides (SOX) Secondary National Ambient Air Quality Standards (NAAQS) Review Panel (CASAC Panel) to peer review EPA's Integrated Science Assessment for Oxides of Nitrogen and Sulfur—Environmental Criteria (Second External Review Draft) (EPA/600/R-08/082) and EPA's Risk and Exposure Assessment for Review of the Secondary National Ambient Air Quality Standards for Oxides of Nitrogen and Oxides of Sulfur: First Draft (EPA-452/P-08-005a). The chartered CASAC will review and approve the Panel's reports by public teleconference.

DATES: The CASAC Panel will meet from 8:30 a.m. Wednesday, October 1, 2008 through 3 p.m. Thursday, October 2, 2008 (Eastern Time). The chartered CASAC will meet by public teleconference from 1 p.m. to 3 p.m. on October 30, 2008 (Eastern Time).

ADDRESSES: The October 1-2, 2008 public meeting will take place at the Marriott at Research Triangle Park, 4700 Guardian Drive, Durham, NC 27703, telephone (919) 941-6200. The October 30, 2008 public teleconference will be conducted by phone only.

FOR FURTHER INFORMATION CONTACT: Any member of the public who wants further information concerning the October 1-2, 2008 meeting may contact Ms. Kyndall Barry, Designated Federal Officer (DFO), EPA Science Advisory Board (1400F), U.S. Environmental Protection Agency, 1200 Pennsylvania Avenue, NW., Washington, DC 20460; via telephone/voice mail (202) 343-9868; fax (202) 233-0643; or e-mail at barry.kyndall@epa.gov. For information on the CASAC teleconference on October 30, 2008, please contact Mr. Fred Butterfield, Designated Federal Officer (DFO), at the above listed address; via telephone/voice mail (202) 343-9994 or e-mail at butterfield.fred@epa.gov. General information concerning the CASAC can be found on the EPA Web site at http://www.epa.gov/casac.

SUPPLEMENTARY INFORMATION:

Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C. App. The Panel will comply with the provisions of FACA and all appropriate SAB Staff Office procedural policies.

Section 109(d)(1) of the CAA requires that the Agency periodically review and revise, as appropriate, the air quality criteria and the NAAQS for the six “criteria” air pollutants, including NOX and SOX. EPA is in the process of reviewing the secondary NAAQS for NOX and SOX. Welfare effects as defined in the CAA includes, but is not limited to, effects on soils, water, wildlife, vegetation, visibility, weather, and climate, as well as effects on materials, economic values, and personal comfort and well-being. As part of that process, EPA's Office of Research and Development (ORD) issued the Draft Integrated Science Assessment fox Oxides of Nitrogen and Sulfur—Environmental Criteria (ISA) in December 2007 and recently issued the second draft ISA in August 2008. EPA's Office of Air and Radiation (OAR) released its Scope and Methods Plan for Risk/Exposure Assessment (REA) in March 2008. OAR completed the first draft REA in August 2008. The CASAC reviewed the first draft ISA and provided consultative advice on the Scope and Methods plan on April 1-2, 2008. The CASAC's reports to the Administrator can be found on the SAB Web site at http://www.epa.gov/casac (see EPA-CASAC-08-011 and EPA-CASAC-08-012 both dated May 19, 2008).

The purpose of the October 1-2, 2008 meeting is for the CASAC Panel to conduct a peer review of the second draft ISA and the first draft REA. The chartered CASAC will review and approve the Panel's draft reports on the ISA and REA by public conference call on October 30, 2008.

Technical Contacts: Any questions concerning EPA's Integrated Science Assessment for Oxides of Nitrogen and Sulfur—Environmental Criteria (Second External Review Draft) should be directed to Dr. Tara Greaver, ORD, at (919) 541-2435 or greaver.tara@epa.gov. Any questions concerning EPA's Risk and Exposure Assessment for Review of the Secondary National Ambient Air Quality Standards for Oxides of Nitrogen and Oxides of Sulfur: First Draft should be directed to Dr. Anne Rea, OAR, at (919) 541-0053 or rea.anne@epa.gov.

Availability of Meeting Materials: EPA-ORD's Integrated Science Assessment for Oxides of Nitrogen and Sulfur—Environmental Criteria (Second External Review Draft) can be accessed at http://cfpub.epa.gov/ncea/cfm/recordisplay.cfm?deid=198220. EPA-OAR's Scope and Methods Plan for Risk/Exposure Assessment: Secondary NAAQS Review for Oxides of Nitrogen and Oxides of Sulfur can be accessed at http://www.epa.gov/ttn/naaqs/standards/no2so2sec/cr_pd.html. The agenda and other materials for the CASAC meetings will be posted on the SAB Web site at http://www.epa.gov/casac.

Procedures for Providing Public Input: Interested members of the public may submit relevant written or oral information for consideration on the topics included in this advisory activity. Oral Statements: To be placed on the public speaker list for the October 1-2, 2008 meeting, interested parties should notify Ms. Kyndall Barry, DFO, by e-mail no later than September 24, 2008. To be placed on the public speaker list for the October 30, 2008 teleconference, interested parties should notify Mr. Fred Butterfield, DFO, by e-mail no later than October 23, 2008. Oral presentations will be limited to one-half hour for all speakers. Written Statements: Written statements for the October 1-2, 2008 meeting should be received in the SAB Staff Office by September 24, 2008, so that the information may be made available to the CASAC Panel for its consideration prior to this meeting. For the teleconference meeting of the chartered CASAC on October 30, 2008, statements should be received in the SAB Staff Office by October 23, 2008. Written statements should be supplied to the appropriate DFO in the following formats: one hard copy with original signature and one electronic copy via e-mail (acceptable file format: Adobe Acrobat PDF, MS Word, WordPerfect, MS PowerPoint, or Rich Text files in IBM-PC/Windows 98/2000/XP format).

Accessibility: For information on access or services for individuals with disabilities, please contact Ms. Barry at the phone number or e-mail address noted above, preferably at least ten days prior to the face-to-face meeting, to give EPA as much time as possible to process your request.

Dated: September 8, 2008.
Anthony F. Maciorowski,
Deputy Director, EPA Science Advisory Board Staff Office.

[FR Doc. E8-21492 Filed 9-12-08; 8:45 am]

BILLING CODE 6560-50-P